DEPARTMENT OF COMMERCE

National Oceanic and Atmospheric Administration

[I.D. 052003C]

Magnuson-Stevens Act Provisions; Atlantic Highly Migratory Species; Exempted Fishing Permits

AGENCY: National Marine Fisheries Service (NMFS), National Oceanic and Atmospheric Administration (NOAA), Commerce.

ACTION: Notice of receipt of a request for exempted fishing permits (EFPs); request for comments.

SUMMARY: NMFS announces the receipt of a request for EFPs for tuna purse seine vessels to begin fishing prior to the traditional start date in order to improve market conditions and to allow retention of all incidental catch of bluefin tuna between 73 and 81 inches. NMFS invites comments from interested parties on potential concerns should these EFPs be issued.

DATES: Written comments on this fishing activity will be considered by NMFS in issuing such EFPs if received on or before June 20, 2003.

ADDRESSES: Send comments to Christopher Rogers, Chief, Highly Migratory Species Management Division (F/SF1), NMFS, 1315 East-West Highway, Silver Spring, MD 20910. Comments also may be sent via facsimile (fax) to (301)713-1917. Comments will not be accepted if submitted via e-mail or Internet.

FOR FURTHER INFORMATION CONTACT: Sari Kiraly, 301-713-2347; fax: 301-713-1917.

SUPPLEMENTARY INFORMATION: EFPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic HMS.

The East Coast Tuna Association (ECTA) has requested EFPs for five tuna purse seine vessels to begin fishing for their giant Atlantic bluefin tuna allocation on July 15, rather than the traditional start date of August 15. The ECTA believes that beginning the purse seine fishing season 30 days early could enhance marketing opportunities and therefore benefit the entire U.S. commercial bluefin tuna fishery.

ECTA also requests an exemption to allow these vessels to exceed the 10-percent tolerance level for incidental catch of bluefin tuna between 73 and 81 inches (185 to 206 cm). In their request, ECTA states that the minimum size tolerance was a restrictive factor limiting the success of last year's start date experiment and above normal water temperatures may also have been a contributing factor. ECTA also states that due to the prevalence of mixed schools of giant and large medium bluefin tuna throughout the fishing season, purse seine vessels would likely exceed the 10-percent tolerance for undersized fish. ECTA feels that the purse seine quota has not been caught in recent years because purse seine vessels have refrained from setting on mixed schools. ECTA notes that the purse seine vessels have the largest average minimum size of any of the U.S. Atlantic tuna commercial categories and that most purse seine vessels targeting mixed schools would not catch bluefin tuna below 75 inches (190 cm). Thus, they are requesting an exemption from the 10 percent tolerance level in order to ensure the purse seine quota is filled, to increase fishing efficiency, and to reduce the potential for bycatch mortality.

NMFS invites comments from interested parties on potential concerns should these EFPs be issued.

Authority: 16 U.S.C. 971 et seq. and 16 U.S.C. 1801 et seq.

Dated: May 30, 2003.
Richard W. Surdi,
Acting Director, Office of Sustainable Fisheries, National Marine Fisheries Service.

[FR Doc. 03-14178 Filed 6-4-03; 8:45 am]

BILLING CODE 3510-22-S